SURFACE TRANSPORTATION BOARD

30-Day Notice of Intent To Seek Extension of Approval; Complaints

AGENCY: Surface Transportation Board.

ACTION: Notice and request for comments.

SUMMARY: As required by the Paperwork Reduction Act of 1995 (PRA), the Surface Transportation Board (STB or Board) gives notice of its intent to seek approval from the Office of Management and Budget (OMB) for an extension of approval for the information collection required from those seeking to file complaints, as described below. The Board previously published a notice about this collection in the Federal Register on May 21, 2020. That notice allowed for a 60-day public review and comment period. No comments were received.

DATES: Comments on this information collection should be submitted by August 13, 2020.

ADDRESSES: Written comments should be identified as “Paperwork Reduction Act Comments, Surface Transportation Board: Complaints.” Written comments for the proposed information collection should be submitted via www.reginfo.gov/public/do/PRAMain. This information collection can be accessed by selecting “Currently under Review—Open for Public Comments” or by using the search function. As an alternative, written comments may be directed to the Office of Management and Budget, Office of Information and Regulatory Affairs, Attention: Michael J. McManus, Surface Transportation Board Desk Officer: By email at oira_submission@omb.eop.gov; by fax at (202) 395-1743; or by mail to Room 10235, 725 17th Street NW, Washington, DC 20503.

Please also direct comments to Chris Oehrle, PRA Officer, Surface Transportation Board, 395 E Street SW, Washington, DC 20423-0001 and to PRA@stb.gov. For further information regarding this collection, contact Michael Higgins, Deputy Director, Office of Public Assistance, Governmental Affairs (OPAGAC), and Compliance, at (202) 245-0284 or michael.higgins@stb.gov. Assistance for the hearing impaired is available through the Federal Relay Service at (800) 877-8339.

SUPPLEMENTARY INFORMATION: Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Complaints.

OMB Control Number: 2140-0029.

STB Form Number: None.

Type of Review: Extension without change.

Respondents: Affected shippers, railroads, and communities that seek redress for alleged violations related to unreasonable rates, unreasonable practices, service issues, and other statutory claims.

Number of Respondents: Four.

Estimated Time per Response: 469 hours.

Frequency: On occasion. For years 2017-2019, respondents filed an average of four complaints of this type with the Board.

Total Burden Hours (annually including all respondents): 1,876 (estimated hours per complaint (469) × average number of complaints (4)).

Total “Non-Hour Burden” Cost: $5,848 (estimated non-hour burden cost per complaint ($1,462) × average number of complaints (4)).

Needs and Uses: Under the Board's regulations, persons may file complaints before the Board pursuant to 49 CFR part 1111 seeking redress for alleged violations of provisions of the Interstate Commerce Act, 49 U.S.C. 10101 et seq. The required content of a complaint is outlined at 49 CFR 1111.1(a). Generally, the most significant complaints filed at the Board allege that railroads are charging unreasonable rates or that they are engaging in unreasonable practices. The collection by the Board of these complaints, and the agency's action in conducting proceedings and ruling on the complaints, enables the Board to meet its statutory duty to regulate the rail industry.

In two notices of proposed rulemakings, Final Offer Rate Review, EP 755 et al. (84 FR 48872 (Sept. 17, 2019)), and Market Dominance Streamlined Approach, EP 756 (84 FR 48882 (Sept. 17, 2019)), the Board proposed new rules that are intended to simplify and streamline certain complaint proceedings. The Board has submitted to OMB an interim request for modification and extension of the existing collection in connection with those proceedings, and has received comments, which it is reviewing. The Board will need to submit another request for modification of the collection for complaints, and address comments received in those proceedings, should final rules be adopted in those proceedings.

Under the PRA, a Federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: July 8, 2020.
Jeffrey Herzig,
Clearance Clerk.

[FR Doc. 2020-15091 Filed 7-13-20; 8:45 am]

BILLING CODE 4915-01-P